DEPARTMENT OF COMMERCE

National Oceanic and Atmospheric Administration

[I.D. 080300C]

Marine Mammals; File No. 924-1484-00

AGENCY: National Marine Fisheries Service (NMFS), National Oceanic and Atmospheric Administration (NOAA), Commerce.

ACTION: Receipt of application for amendment.

SUMMARY: Notice is hereby given that Marsha Green, Ph.D., Psychology Department, Albright College, P.O. Box 15234, Reading, Pennsylvania 19612-5234, has requested an amendment to Scientific Research Permit No. 924-1484-00.

DATES: Written or telefaxed comments must be received on or before September 18, 2000.

ADDRESSES: The amendment request and related documents are available for review upon written request or by appointment in the following office(s):

Permits and Documentation Division, Office of Protected Resources, NMFS, 1315 East-West Highway, Room 13705, Silver Spring, MD 20910, (301) 713-2289;

Regional Administrator, Southwest Region, NMFS, 501 West Ocean Boulevard, Suite 4200, Long Beach, California 90802-4213, (562) 980-4001; and

Protected Resources Coordinator, Pacific Islands Area Office, National Marine Fisheries Service, NOAA, 1601 Kapiolani Boulevard, Suite 1110, Honolulu HI 96814-4700, (808) 973-2935.

Written comments or requests for a public hearing on this request should be submitted to the Chief, Permits and Documentation Division, F/PR1, Office of Protected Resources, NMFS, 1315 East-West Highway, Room 13705, Silver Spring, MD 20910. Those individuals requesting a hearing should set forth the specific reasons why a hearing on this particular amendment request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Jill Lewandowski, (301)713-2289.

SUPPLEMENTARY INFORMATION: The subject amendment to Permit No. 924-1484-00, issued on February 8, 2000 (65 FR 6175) is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226). Permit No. 924-1484-00 authorizes the applicant to conduct controlled vessel approach trials and obtain audio/video recordings on humpback whales (Megaptera novaeangliae) during the course of research to evaluate whale behavior in the presence of vessels. The research occurs in Hawaiian waters between Maui and Lanai, and off the northwest coast between Kona and Hawaii. The authority of this permit currently expires on August 31, 2004.

The permit holder is now requesting authorization to: (1) change the expiration date to August 31, 2005; (2) add approach takes for spinner dolphins (Stenella longirostris), spotted dolphins (Stenella attenuata) and bottlenose dolphins (Tursiops truncatus) when in the presence of humpback whales; and (3) increase annual humpback whale takes to 350 for controlled vessel approaches and 700 for video/audio recordings.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: August 14, 2000.
Ann D. Terbush,
Chief, Permits and Documentation Division, Office of Protected Resources, National Marine Fisheries Service.

[FR Doc. 00-20990 Filed 8-16-00; 8:45 am]

BILLING CODE 3510-22-F